DEPARTMENT OF TRANSPORTATION

Federal Aviation Administration

14 CFR Part 71

[Docket No. FAA-2024-1048; Airspace Docket No. 24-AGL-1]

RIN 2120-AA66

Amendment of Jet Routes J-35 and J-101; Amendment VOR Federal Airways V-9, V-48, V-69, V-227, and V-313; and Revocation of VOR Federal Airway V-586 in the Vicinity of Pontiac, IL

AGENCY: Federal Aviation Administration (FAA), DOT.

ACTION: Notice of proposed rulemaking (NPRM).

SUMMARY: This action proposes to amend Jet Routes J-35 and J-101; amend Very High Frequency Omnidirectional Range (VOR) Federal Airways V-9, V-48, V-69, V-227, and V-313; and revoke VOR Federal Airway V-586. The FAA is proposing this action due to the planned decommissioning of the VOR portion of the Pontiac, IL (PNT), VOR/Distance Measuring Equipment (VOR/DME) navigational aid (NAVAID). The Pontiac VOR is being decommissioned in support of the FAA's VOR Minimum Operational Network (MON) program.

DATES: Comments must be received on or before June 10, 2024.

ADDRESSES: Send comments identified by FAA Docket No. FAA-2024-1048 and Airspace Docket No. 24-AGL-1 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004 and VOR Federal Airways are published in paragraph 6010(a) of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the VOR portion of the Pontiac, IL, VOR/DME in December 2024. The Pontiac VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Pontiac VOR/DME is planned for decommissioning, the co-located Distance Measuring Equipment (DME) is being retained to continue supporting current and future NextGen PBN flight procedure requirements.

The Air Traffic Service (ATS) routes affected by the planned decommissioning of the Pontiac VOR are Jet Routes J-35 and J-101, and VOR Federal Airways V-9, V-48, V-69, V-227, V-313, and V-586. With the planned decommissioning of the Pontiac VOR, the remaining ground-based NAVAID coverage in the area is insufficient to enable the continuity of the affected routes. As such, proposed modifications to J-35, V-48, V-69, V-227 and V-313 would result in the ATS routes being shortened; to J-101 would result in a gap in the route; to V-9 would result in an existing gap being widened; and to V-586 would result in the airway being revoked.

To address the proposed amendments to the affected ATS routes, instrument flight rules (IFR) traffic could use adjacent Jet Routes J-19, J-26, J-71, J-96, and J-181 in the high-altitude stratum or use VOR Federal Airways V-156, V-173, V-233, V-262, V-429, and V-434 in the low-altitude stratum to navigate around the area affected by the planned decommissioning of the Pontiac VOR. Additionally, IFR pilots equipped with area navigation (RNAV) capabilities could also navigate using RNAV route Q-42 in the high-altitude stratum; RNAV routes T-215, T-325, T-354, and T-478 in the low-altitude stratum; or point-to-point using the existing Fixes and waypoints (WP) that would remain in place to support continued operations though the affected area. Visual flight rules pilots who elect to navigate via the affected ATS routes could also take advantage of the adjacent conventional airways listed above, as well as the listed RNAV routes and point-to-point navigation, if properly equipped. Lastly, all aircraft also have the option to request and receive radar vectors from air traffic control to transit the affected area.

The Proposal

The FAA is proposing to amend 14 CFR part 71 by amending Jet Routes J-35 and J-101; amending VOR Federal Airways V-9, V-48, V-69, V-227, and V-313; and revoking VOR Federal Airway V-586 due to the planned decommissioning of the Pontiac, IL, VOR. The proposed ATS route actions are described below.

J-35: J-35 currently extends between the Leeville, LA, VOR/Tactical Air Navigation (VORTAC) and the Northbrook, IL, VOR/DME. The FAA proposes to remove the route segment between the Spinner, IL, VORTAC and the Joliet, IL, VOR/DME due to the planned decommissioning of the VOR portion of the Pontiac VOR/DME. Additionally, the FAA proposes to also remove the route segments between the Farmington, MO, VORTAC and the St. Louis, MO, VORTAC due to that route segment overlapping J-151; between the St. Louis VORTAC and the Spinner VORTAC due to that route segment overlapping J-101; and between the Joliet VOR/DME and the Northbrook VOR/DME due to that route segment overlapping J-87. The overlapped J-151, J-101, and J-87 route segments would remain charted and provide navigational guidance between the affected NAVAIDs. As amended, the route would be changed to extend between the Leeville VORTAC and the Farmington VORTAC.

J-101: J-101 currently extends between the Humble, TX, VORTAC and the Sault Ste Marie, MI, VOR/DME. The FAA proposes to remove the route segment between the Spinner, IL, VORTAC and the Joliet, IL, VOR/DME due to the planned decommissioning of the VOR portion of the Pontiac VOR/DME. Additionally, the FAA proposes to remove the route segment between the Joliet VOR/DME and the Northbrook, IL, VOR/DME due to that route segment overlapping J-87. As amended, the route would be changed to extend between the Humble VORTAC and the Spinner VORTAC, and between the Northbrook VOR/DME and the Sault Ste Marie VOR/DME. Additional route changes have been proposed in a separate NPRM action.

V-9: V-9 currently extends between the Leeville, LA, VORTAC and the Pontiac, IL, VOR/DME; and between the Janesville, WI, VOR/DME and the Houghton, MI, VOR/DME. The FAA proposes to remove the airway segment between the Spinner, IL, VORTAC and the Pontiac VOR/DME. As amended, the airway would be changed to extend between the Leeville VORTAC and the Spinner VORTAC, and between the Janesville VOR/DME and the Houghton VOR/DME.

V-48: V-48 currently extends between the Ottumwa, IA, VOR/DME and the Pontiac, IL, VOR/DME. The FAA proposes to remove the airway segment between the Peoria, IL, VORTAC and the Pontiac VOR/DME. As amended, the airway would be changed to extend between the Ottumwa VOR/DME and the Peoria VORTAC. Additional airway changes have been proposed in a separate NPRM action.

V-69: V-69 currently extends between the El Dorado, AR, VOR/DME and the Joliet, IL, VOR/DME. The FAA proposes to remove the airway segment between the Spinner, IL, VORTAC and the Joliet VOR/DME. As amended, the airway would be changed to extend between the El Dorado VOR/DME and the Spinner VORTAC.

V-227: V-227 currently extends between the Boiler, IN, VORTAC and the intersection of the Pontiac, IL, 006° and Bradford, IL, 058° radials (PLANO Fix). The FAA proposes to remove the airway segment between the Roberts, IL, VOR/DME and the intersection of the Pontiac, IL, 006° and Bradford, IL, 058° radials (PLANO Fix). As amended, the airway would be changed to extend between the Boiler VORTAC and the Roberts VOR/DME.

V-313: V-313 currently extends between the Centralia, IL, VORTAC and the Pontiac, IL, VOR/DME. The FAA proposes to remove the airway segment between the Adders, IL, VORTAC and the Pontiac VOR/DME. As amended, the airway would be changed to extend between the Centralia VORTAC and the Adders VORTAC.

V-586: V-586 currently extends between the Peoria, IL, VORTAC and the Joliet, IL, VOR/DME via the Pontiac, IL, VOR/DME. The FAA proposes to remove the airway in its entirety.

All NAVAID radials listed in the VOR Federal airway descriptions in the proposed regulatory text of this notice of proposed rulemaking are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-35 [Amended]

From Leeville, LA; Mc Comb, MS; Sidon, MS; Memphis, TN; to Farmington, MO.

* * * * *

J-101 [Amended]

From Humble, TX; Lufkin, TX; Little Rock, AR; St. Louis, MO; to Spinner, IL. From Northbrook, IL; Badger, WI; Green Bay, WI; to Sault Ste Marie, MI.

* * * * *

Paragraph 6010(a) Domestic VOR Federal Airways.

* * * * *

V-9 [Amended]

From Leeville, LA; Mc Comb, MS; INT Mc Comb 004° and Magnolia, MS, 194° radials; Magnolia; Sidon, MS; Marvell, AR; INT Marvell 326° and Walnut Ridge, AR, 187° radials; Walnut Ridge; Farmington, MO; St. Louis, MO; to Spinner, IL. From Janesville, WI; Madison, WI; Oshkosh, WI; Green Bay, WI; Iron Mountain, MI; to Houghton, MI.

* * * * *

V-48 [Amended]

From Ottumwa, IA; Burlington, IA; to Peoria, IL.

* * * * *

V-69 [Amended]

From El Dorado, AR; Pine Bluff, AR; INT Pine Bluff 038° and Walnut Ridge, AR, 187° radials; Walnut Ridge; Farmington, MO; Troy, IL; to Spinner, IL.

* * * * *

V-227 [Amended]

From Boiler, IN; to Roberts, IL.

* * * * *

V-313 [Amended]

From Centralia, IL; to Adders, IL.

* * * * *

V-586 [Removed]

* * * * *

Issued in Washington, DC, on April 18, 2024.
Frank Lias,
Manager, Rules and Regulations Group.

[FR Doc. 2024-08670 Filed 4-24-24; 8:45 am]

BILLING CODE 4910-13-P